GENERAL SERVICES ADMINISTRATION

[Notice-MG-2018-01; Docket No. 2018-0002; Sequence No. 13]

Office of Federal High-Performance Buildings; Green Building Advisory Committee; Notification of Upcoming Conference Calls

AGENCY: Office of Government-Wide Policy, General Services Administration (GSA).

ACTION: Meeting notice.

SUMMARY: Notice of this meeting and these conference calls is being provided according to the requirements of the Federal Advisory Committee Act. This notice provides the agendas and schedules for the September 27, 2018 meeting of the Green Building Advisory Committee (the Committee), as well as the schedule for a series of conference calls for a task group of the Committee.

DATES: Meeting date: The fall meeting of the Committee will be held on Thursday, September 27, 2018, starting at 10:00 a.m. Eastern Daylight Time (EDT), and ending no later than 4:00 p.m. EDT.

ADDRESSES: The meeting will be held at 1800 F Street NW, Washington, DC 20405, Room 1151. The in-person meeting is open to the public and the site is accessible to individuals with disabilities. The task group conference calls are open for the public to listen in. Interested individuals must register to attend as instructed below under Supplementary Information.

The Building and Grid Integration Task Group will hold recurring, weekly conference calls on Wednesdays beginning June 27, 2018, through November 14, 2018, from 3:00 p.m. to 4:00 p.m., EDT.

FOR FURTHER INFORMATION CONTACT: Mr. Ken Sandler, Designated Federal Officer, Office of Federal High-Performance Buildings, Office of Government-wide Policy, GSA, 1800 F Street NW, Washington, DC 20405, telephone 202-219-1121 (note: this is not a toll-free number). Additional information about the Committee, including meeting materials and agendas, will be available on-line at http://www.gsa.gov/gbac.

SUPPLEMENTARY INFORMATION:

Procedures for Attendance and Public Comment: Contact Mr. Ken Sandler at ken.sandler@gsa.gov to register to attend the in-person meeting or listen to any of these conference calls. To attend any of these events, submit your full name, organization, email address, and phone number, and which you would like to attend. Requests to attend the conference calls must be received by 5:00 p.m. EDT, on Monday, June 25, 2018. (GSA will be unable to provide technical assistance to any listener experiencing technical difficulties. Testing access to the Web meeting site before the calls is recommended.) Requests to attend the September 27, 2018 meeting must be received by 5:00 p.m., EDT, on Friday, August 31, 2018.

Contact Mr. Sandler to register to comment during the September 27, 2018 meeting public comment period. Registered speakers/organizations will be allowed a maximum of five minutes each, and will need to provide written copies of their presentations. Requests to comment at the meeting must be received by 5:00 p.m., EDT, on Friday, August 31, 2018. Written comments may be provided to Mr. Sandler by the same deadline.

Background: The Administrator of GSA established the Committee on June 20, 2011 (Federal Register/Vol. 76, No. 118) pursuant to Section 494 of the Energy Independence and Security Act of 2007 (EISA, 42 U.S.C. 17123). Under this authority, the Committee provides independent policy advice and recommendations to GSA to advance federal building innovations in planning, design, and operations to reduce costs, enable agency missions, enhance human health and performance, and minimize environmental impacts.

The new Building and Grid Integration Task Group is pursuing the goal to develop recommendations on the integration of federal buildings with the electrical grid to enhance resilience, provide savings of both energy and cost, and facilitate distributed energy generation, including renewable sources.

The conference calls will allow the task group to develop consensus recommendations to the full Committee, which will, in turn, decide whether to proceed with formal advice to GSA based upon these recommendations.

September 27, 2018 Meeting Agenda

• Updates and Introductions

• Building-grid integration task group update

• Lunchtime speaker (TBD)

• Election for Committee Chair

• Identifying new topic areas to pursue

• Next steps

Dated: May 25, 2018.
Kevin Kampschroer,
Federal Director, Office of Federal High-Performance Buildings, General Services Administration.

[FR Doc. 2018-11707 Filed 5-30-18; 8:45 am]

BILLING CODE 6820-14-P